DEPARTMENT OF HOMELAND SECURITY

Coast Guard

33 CFR Part 165

[Docket No. USCG-2024-0998]

Safety Zone; Los Angeles County Annual New Years Eve Fireworks Event

AGENCY: Coast Guard, DHS.

ACTION: Notification of enforcement of regulation.

SUMMARY: The Coast Guard will enforce safety zones for the Los Angeles County Holiday Fireworks on December 14, 2024, and the Los Angeles County New Years Eve Fireworks on December 31, 2024 through January 1, 2025. These safety zones are to provide for the safety of life and property on the navigable waterways during these events. Our regulation for firework events within the Los Angeles Long Beach Captain of the Port Zone identifies the regulated areas for these firework events in Marina del Rey, CA. During the enforcement periods, the operator of any vessel in the regulated area must comply with directions from the Patrol Commander or any Official Patrol displaying a Coast Guard ensign.

DATES: The regulations in 33 CFR 165.1125 will be enforced for the locations identified in Table 1 to § 165.1125 Item Number 14, from 5:30 p.m. to 6:30 p.m. on December 14, 2024, and Item Number 15, from 8:00 p.m. on December 31, 2024, through 1:00 a.m. on January 1, 2025.

FOR FURTHER INFORMATION CONTACT: If you have questions about this notification of enforcement, call or email LCDR Kevin Kinsella, U.S. Coast Guard; telephone 310-521-3860, email D11-SMB-SectorLALB-WWM@uscg.mil.

SUPPLEMENTARY INFORMATION: The Coast Guard will enforce the safety zones in 33 CFR 165.1125 for the Los Angeles County Holiday Fireworks regulated area in Item Number 14 of Table 1 to § 165.1125 from 5:30 p.m. to 6:30 p.m. on December 14, 2024 and for the New Years Eve Fireworks regulated area in Item Number 15 of Table 1 to § 165.1125 from 8:00 p.m. on December 31, 2024, to 1:00 a.m. on January 1, 2025. This action will be taken to provide for the safety of life on navigable waterways during the events. Our regulation for fireworks events within the Los Angeles Long Beach Captain of the Port Zone, Table 1 to § 165.1125, Item Numbers 14 and 15, specifies the location of the regulated areas for the Los Angeles County Holiday Fireworks and the New Years Eve Fireworks, which encompasses portions of Marina del Rey. During the enforcement periods, § 165.1125 requires operators of a vessel in the regulated area to comply with directions from the Patrol Commander or Official Patrol, defined as any Coast Guard or other Federal, state, or local law enforcement assisting the Coast Guard in enforcing the regulated area.

In addition to this notification of enforcement in the Federal Register, the Coast Guard plans to provide notification of this enforcement period via a Marine Safety Information Bulletin (MSIB) and a Broadcast Notice to Mariners (BNM).

Dated: December 3, 2024.
Stacey L. Crecy,
Captain, U.S. Coast Guard, Captain of the Port Los Angeles-Long Beach.

[FR Doc. 2024-28754 Filed 12-6-24; 8:45 am]

BILLING CODE 9110-04-P